DEPARTMENT OF ENERGY

Office of Energy Efficiency and Renewable Energy

Federal Energy Management Advisory Committee

AGENCY: Department of Energy.

ACTION: Notice of open meeting.

SUMMARY: This notice announces an open meeting of the Federal Energy Management Advisory Committee (FEMAC). The Federal Advisory Committee Act (Public Law 92—463, 86 Stat. 770) requires announcement of these meetings in the Federal Register to allow for public participation. Executive Order 13123, “Greening the Government through Efficient Energy Management,” established the Federal Energy Management Advisory Committee (FEMAC) to provide public and private sector input to the Secretary of Energy on achieving new energy efficiency goals for Federal facilities. The U.S. Department of Energy's Office of Federal Energy Management Programs (FEMP) coordinates FEMAC activities.

DATES: Tuesday, November 13, 2001; 1 p.m. to 5 p.m.; Wednesday, November 14, 2001; 8:30 a.m. to 4 p.m.

ADDRESSES: Loews L'Enfant Plaza Hotel, 480 L'Enfant Plaza, SW., Washington, DC 20024.

FOR FURTHER INFORMATION CONTACT: Steven Huff, Designated Federal Officer for the Committee, Office of Federal Energy Management Programs, U.S. Department of Energy, 1000 Independence Avenue, SW., Washington, DC 20585; (202) 586-3507; Steven.Huff@ee.doe.gov; http://www.eren.doe.gov/femp/aboutfemp/femac.html.

SUPPLEMENTARY INFORMATION: Purpose of Meeting: To provide advice and guidance on a range of issues critical to meeting mandated Federal energy management goals.

Tentative Agenda: Agenda will include discussion on the following topics:

Tuesday, November 13, 2001, and Wednesday, November 14, 2001

• Federal energy management budget

• Energy-savings performance contracts

• Utility energy-efficiency service contracts

• Procurement of ENERGY STAR (Registered Trademark) and other energy efficient products

• Building design

• Process energy use

• Applications of efficient and renewable energy technology (including clean energy technology) at Federal facilities

• Other energy management issues and topics

• Public comment

Public Participation: In keeping with procedures, members of the public are welcome to observe the business of the Federal Energy Management Committee. If you would like to file a written statement with the committee, you may do so either before or after the meeting. If you would like to make oral statements regarding any of the items on the agenda, contact Steven Huff at (202) 586-3507 or Steven.Huff@ee.doe.gov. You must make your request for an oral statement at least 5 business days before the meeting. Members of the public will be heard in the order they sign up at the beginning of the meeting. Reasonable provision will be made to include the scheduled oral statements on the agenda. The committee chair will make every effort to hear the views of all interested parties. The chair will conduct the meeting to facilitate the orderly conduct of business. With the limited time available, the committee also encourages written recommendations, suggestions, position papers, etc., combined with a short oral summary statement. Documents may be submitted either before or following the meeting. This notice is being published less than 15 days before the date of the meeting due to the late resolution of programmatic issues.

Minutes: The minutes of the meeting will be available for public review and copying within 30 days at the Freedom of Information Public Reading Room; Room 1E—190; Forrestal Building; 1000 Independence Avenue, SW., Washington, DC, between 9 a.m. and 4 p.m., Monday through Friday, except Federal holidays.

Issued at Washington, DC, on October 25, 2001.
Rachel M. Samuel,
Deputy Advisory Committee Management Officer.

[FR Doc. 01-27125 Filed 10-26-01; 8:45 am]

BILLING CODE 6450-01-P